NATIONAL AERONAUTICS AND SPACE ADMINISTRATION

[Notice (07-012)]

Government-Owned Inventions, Available for Licensing

AGENCY: National Aeronautics and Space Administration.

ACTION: Notice of availability of inventions for licensing.

SUMMARY: The invention listed below is assigned to the National Aeronautics and Space Administration, is the subject of a patent application that has been filed in the United States Patent and Trademark Office, and is available for licensing.

DATES: February 22, 2007.

FOR FURTHER INFORMATION CONTACT: Mark W. Homer, Patent Counsel, NASA Management Office—JPL, 4800 Oak Grove Drive, Mail Stop 180-200, Pasadena, CA 91109; telephone (818) 354-7770.

NASA Case No. NPO-42563-1-CU: Underwater Vehicle Propulsion and Power Generation; NASA Case No. NPO-42221-1-CU: White-Light Whispering Gallery Mode Optical Resonator System and Method; NASA Case No. NPO-41446-1-CU: Self-Configurable Radio Receiver; NASA Case No. DRC-006-005: Propulsion Controlled Aircraft Computer (PCAC); NASA Case No. DRC-006-006: Sensor-Based Management for Secured Inventories; NASA Case No. DRC 006-024: Method for Real-Time Structure Shape-Sensing.

Dated: February 9, 2007.
Keith T. Sefton,
Deputy General Counsel, Administration and Management.

[FR Doc. E7-2915 Filed 2-21-07; 8:45 am]

BILLING CODE 7510-13-P